DEPARTMENT OF COMMERCE

National Oceanic and Atmospheric Administration

RIN 0648-XF604

Permanent Advisory Committee To Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a public meeting of the Permanent Advisory Committee (PAC) to advise the U.S. Commissioners to the Commission for the Conservation and Management of Highly Migratory Fish Stocks in the Western and Central Pacific Ocean (WCPFC) on September 12, 2017.

DATES: The meeting of the PAC will be held via conference call on September 12, 2017, from 11 a.m. to 1 p.m. HST (or until business is concluded). Members of the public may submit written comments; comments must be received by September 7, 2017.

ADDRESSES: The public meeting will be conducted via conference call. For details on how to call in to the conference line or to submit comments, please contact Emily Crigler, NMFS Pacific Islands Regional Office; telephone: 808-725-5036; email: emily.crigler@noaa.gov. Documents to be considered by the PAC will be sent out via email in advance of the conference call. Please submit contact information to Emily Crigler (telephone: 808-725-5036; email: emily.crigler@noaa.gov) at least 3 days in advance of the call to receive documents via email.

FOR FURTHER INFORMATION CONTACT: Emily Crigler, NMFS Pacific Islands Regional Office; 1845 Wasp Blvd., Bldg. 176, Honolulu, HI 96818; telephone: 808-725-5036; facsimile: 808-725-5215; email: emily.crigler@noaa.gov.

SUPPLEMENTARY INFORMATION: In accordance with the Western and Central Pacific Fisheries Convention Implementation Act (16 U.S.C. 6901 et seq.), the Permanent Advisory Committee, or PAC, has been formed to advise the U.S. Commissioners to the WCPFC. Members of the PAC have been appointed by the Secretary of Commerce in consultation with the U.S. Commissioners to the WCPFC. The PAC supports the work of the U.S. National Section to the WCPFC in an advisory capacity. The U.S. National Section is made up of the U.S. Commissioners and the Department of State. NMFS Pacific Islands Regional Office provides administrative and technical support to the PAC in cooperation with the Department of State. More information on the WCPFC, established under the Convention on the Conservation and Management of Highly Migratory Fish Stocks in the Western and Central Pacific Ocean, can be found on the WCPFC Web site: http://wcpfc.int/.

Meeting Topics

The purpose of the September 12, 2017, conference call is to discuss outcomes of: The 2017 regular session of the WCPFC Scientific Committee (SC13), the 2017 regular session of the WCPFC Northern Committee (NC13), and the Intersessional Meeting to progress the draft Bridging CMM on Tropical Tuna. There will also be a discussion on topics relevant to the subsequent regular session of the Technical and Compliance Committee (TCC13).

Special Accommodations

The conference call is accessible to people with disabilities. Requests for sign language interpretation or other auxiliary aids should be directed to Emily Crigler at 808-725-5036 at least ten working days prior to the meeting.

Authority: 16 U.S.C. 6902 et seq.

Dated: August 9, 2017.
Emily H. Menashes,
Acting Director, Office of Sustainable Fisheries, National Marine Fisheries Service.

[FR Doc. 2017-17121 Filed 8-11-17; 8:45 am]

BILLING CODE 3510-22-P